DEPARTMENT OF THE INTERIOR

National Park Service

[NPS-WASO-NAGPRA-NPS0040237; PPWOCRADN0-PCU00RP14.R50000]

Notice of Inventory Completion: Milwaukee Public Museum, Milwaukee, WI

AGENCY: National Park Service, Interior.

ACTION: Notice.

SUMMARY: In accordance with the Native American Graves Protection and Repatriation Act (NAGPRA), the Milwaukee Public Museum has completed an inventory of human remains and associated funerary objects and has determined that there is a cultural affiliation between the human remains and associated funerary objects and Indian Tribes or Native Hawaiian organizations in this notice.

DATES: Repatriation of the human remains and associated funerary objects in this notice may occur on or after July 11, 2025.

ADDRESSES: Send written requests for repatriation of the human remains and associated funerary objects in this notice to Dawn Scher Thomae, Curator of Anthropology Collections, Milwaukee Public Museum, 800 West Wells Street, Milwaukee, WI 53233, email thomae@mpm.edu.

SUPPLEMENTARY INFORMATION: This notice is published as part of the National Park Service's administrative responsibilities under NAGPRA. The determinations in this notice are the sole responsibility of the Milwaukee Public Museum (MPM), and additional information on the determinations in this notice, including the results of consultation, can be found in its inventory or related records. The National Park Service is not responsible for the determinations in this notice.

Abstract of Information Available

Based on the information available, human remains representing at least four individuals have been reasonably identified. The four associated funerary objects are one lot of mixed material containing ceramic sherds, celts, and a broken stone pipe; one ceramic vessel; one ceramic sherd; and one lot of two ceramic sherds.

The individuals and associated funerary objects were removed from the Pipe Site Complex, Fond du Lac County, WI, which consists of two sites: the Pipe Site (47FD0010) and Camp Shaginappi (47FD0013).

In August 1925, Mr. Robert Weeks excavated portions of a panther mound within Camp Shaginappi removing an individual and their associated funerary object, ceramic sherds that were later reconstructed as a vessel. The MPM obtained the associated funerary object in December 1925 and later purchased the individual in 1926. Between 1933-1934, associated funerary objects, which were sherds, celts, and a broken stone pipe, were removed from the Pipe Village Site by Maurice Scofield Thomson. They were donated to the MPM in 1979 by his widow. In 1960, Lee Parsons of the MPM Anthropology department removed partial remains of three individuals and one AFO, a ceramic sherd, from the Pipe Site. At an unknown date, associated funerary objects which include one lot of two ceramic sherds, were removed from the Pipe Site by J. Kirk Whaley of Milwaukee, Wisconsin. They were donated to the MPM in 1971.

Cultural Affiliation

Based on the information available and the results of consultation, cultural affiliation is clearly identified by the information available about the human remains and associated funerary objects described in this notice.

Determinations

MPM has determined that:

• The human remains described in this notice represent the physical remains of four individuals of Native American ancestry.

• The four objects described in this notice are reasonably believed to have been placed intentionally with or near individual human remains at the time of death or later as part of the death rite or ceremony.

• There is a reasonable connection between the human remains and associated funerary objects described in this notice and the Ho-Chunk Nation of Wisconsin; Iowa Tribe of Kansas and Nebraska; Iowa Tribe of Oklahoma; Match-e-be-nash-she-wish Band of Pottawatomi Indians of Michigan; Menominee Indian Tribe of Wisconsin; Otoe-Missouria Tribe of Indians, Oklahoma; and the Winnebago Tribe of Nebraska.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 11, 2025. If competing requests for repatriation are received, the MPM must determine the most appropriate requestor prior to repatriation. Requests for joint repatriation of the human remains and associated funerary objects are considered a single request and not competing requests. The MPM is responsible for sending a copy of this notice to the Indian Tribes and Native Hawaiian organizations identified in this notice.

Authority: Native American Graves Protection and Repatriation Act, 25 U.S.C. 3003, and the implementing regulations, 43 CFR 10.10.

Dated: May 21, 2025.
Melanie O'Brien,
Manager, National NAGPRA Program.

[FR Doc. 2025-10588 Filed 6-10-25; 8:45 am]

BILLING CODE 4312-52-P